DEPARTMENT OF HOMELAND SECURITY

Federal Emergency Management Agency

44 CFR Part 67

[Docket ID FEMA-2010-0003; Internal Agency Docket No. FEMA-B-1128]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 13, 2010.

ADDRESSES: The corresponding preliminary Flood Insurance Rate Map (FIRM) for the proposed BFEs for each community is available for inspection at the community's map repository. The respective addresses are listed in the table below.

You may submit comments, identified by Docket No. FEMA-B-1128, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sierra County, California, and Incorporated Areas
Downie River | Approximately 0.76 mile downstream of Jersey Flat Bridge | None | +2,897 | Unincorporated Areas of Sierra County.
| Approximately 167 feet upstream of Jersey Flat Bridge | None | +2,933
North Yuba River | Approximately 5.45 miles downstream of Goodyears Bar Bridge | None | +2,645 | Unincorporated Areas of Sierra County.
| Approximately 0.38 mile upstream of Goodyears Bar Bridge | None | +2,974
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Sierra County
Maps are available for inspection at the Sierra County Courthouse Annex, 101 Courthouse Square, Downieville, CA 95936.
Sanilac County, Michigan (All Jurisdictions)
Lake Huron | Entire shoreline within Sanilac County | None | +584 | Township of Delaware, Township of Forester, Township of Lexington, Township of Sanilac, Township of Worth, Village of Forestville, Village of Lexington, Village of Port Sanilac.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Delaware
Maps are available for inspection at 3375 Charleston Road, Minden City, MI 48456.
Township of Forester
Maps are available for inspection at 5680 East Deckerville Road, Deckerville, MI 48427.
Township of Lexington
Maps are available for inspection at 7227 Huron Avenue, Suite 200, Lexington, MI 48450.
Township of Sanilac
Maps are available for inspection at 20 North Ridge Street, Port Sanilac, MI 48469.
Township of Worth
Maps are available for inspection at 6903 South Lakeshore Road, Lexington, MI 48450.
Village of Forestville
Maps are available for inspection at 5605 Cedar Avenue, Forestville, MI 48434.
Village of Lexington
Maps are available for inspection at 7227 Huron Avenue, Suite 100, Lexington, MI 48450.
Village of Port Sanilac
Maps are available for inspection at 56 North Ridge Street, Port Sanilac, MI 48469.
Erie County, New York (All Jurisdictions)
Berricks Creek | Approximately 45 feet upstream of the I-90 culvert (upstream face) | None | +753 | Town of Hamburg.
| Approximately 230 feet upstream of the I-90 culvert (upstream face) | None | +753
Big Sister Creek | Approximately 5,475 feet downstream of Cain Road/Evans/Eden town boundary | None | +732 | Town of Eden.
| Approximately 1,875 feet downstream of Cain Road/Evans/Eden town boundary | None | +735
Buffalo River | At the confluence with Lake Erie | +580 | +581 | City of Buffalo.
| At the upstream face of the railroad bridge | +580 | +581
Cayuga Creek | Approximately 80 feet upstream of Clinton Street | +596 | +593 | Town of Cheektowaga, Town of Lancaster, Town of West Seneca, Village of Depew, Village of Lancaster.
| At the Lancaster/Alden town boundary | None | +742
Cazenovia Creek | At the confluence with the Buffalo River | +584 | +583 | City of Buffalo.
| At the downstream face of Southside Parkway | +584 | +583
Cazenovia Creek East Branch | Approximately 500 feet downstream of Center Street | None | +874 | Village of East Aurora.
| Approximately 10 feet downstream of Center Street (at the Town of Aurora/Village of East Aurora boundary) | None | +874
Cazenovia Creek East Branch | Approximately 565 feet upstream of North Main Street (State Route 16) | +1,057 | +1,063 | Town of Holland.
| Approximately 1,930 feet upstream of North Main Street (State Route 16) | +1,074 | +1,076
Eighteenmile Creek | Approximately 230 feet upstream of the confluence with Eighteenmile Creek South Branch Tributary | None | +650 | Town of Hamburg.
| Approximately 425 feet downstream of South Creek Road | None | +714
Eighteenmile Creek | Approximately 5,280 feet upstream of U.S. Route 62 (Pierce Avenue) | None | +766 | Village of Hamburg.
| Approximately 5,750 feet upstream of U.S. Route 62 (Pierce Avenue) | None | +767
Ellicott Creek | Approximately 1,035 feet upstream of Colvin Boulevard | None | +572 | Town of Amherst, Town of Tonawanda.
| Approximately 1,435 feet northeast of the intersection of Lawrence Bell Drive and Cartwright Drive | None | +695
Ellicott Creek | At the downstream Town of Alden/Village of Alden boundary | None | +810 | Village of Alden.
| At the upstream Town of Alden/Village of Alden boundary | None | +815
Ellicott Creek | At Lynbrook Drive | None | +572 | City of Tonawanda, Town of Tonawanda.
| Approximately 150 feet west of the intersection of Willow Grove Street and Parker Boulevard | None | +572
Lake Erie | At the southern corporate limits of the Town of Brant | None | +579 | City of Buffalo, City of Lackawanna, Town of Brant.
| At the confluence with Black Rock Canal | +580 | +581
Little Buffalo Creek | At the confluence with Cayuga Creek | +678 | +686 | Town of Lancaster.
| At the downstream face of the dam, upstream of Bowen Road | +683 | +688
Ransom Creek | At the upstream face of the Glen Oak Drive culvert | +581 | +582 | Town of Amherst, Town of Clarence.
| Approximately 115 feet upstream of Kraus Road | None | +652
Scajaquada Creek | Approximately 15 feet downstream of the I-190 exit ramp | +573 | +579 | City of Buffalo.
| At the downstream face of the Private Road culvert (downstream of Main Street) | +609 | +610
Slate Bottom Creek | At the confluence with Cayuga Creek | +601 | +600 | Town of Cheektowaga, Town of Elma, Town of Lancaster.
| Approximately 175 feet upstream of Brunk Road | None | +715
Smokes Creek | At the confluence with Lake Erie | +580 | +581 | City of Lackawanna.
| Approximately 550 feet upstream of the Bethlehem Steel Vehicular Bridge | +580 | +581
Smokes Creek Northwest Branch | Approximately 1,475 feet downstream of Berg Road | None | +662 | Town of West Seneca.
| Approximately 2,950 feet upstream of Berg Road | None | +706
Smokes Creek Northwest Branch | Approximately 380 feet upstream of Highland Avenue | None | +870 | Village of Orchard Park.
| Approximately 1,615 feet upstream of Highland Avenue | None | +872
Smokes Creek Overland Flow | At the upstream face of the Lake Shore Road culvert | None | +581 | Town of Hamburg, Village of Blasdell.
| At the upstream Village of Blasdell/City of Lackawanna boundary | None | +591
Smokes Creek South Branch | Approximately 115 feet upstream of Recreational Park Access Drive/Town of Orchard Park corporate limits | None | +813 | Town of Orchard Park.
| Approximately 630 feet north of the intersection of Elmhurst Drive and Woodland Drive/Town of Orchard Park corporate limits | None | +845
Tannery Brook | Approximately 195 feet upstream of Fillmore Avenue/Town of Aurora downstream corporate limits | None | +935 | Town of Aurora.
| Approximately 170 feet downstream of Brooklea Drive/Town of Aurora upstream corporate limits | None | +936
Tonawanda Creek | At Mary Vista Court extended | None | +572 | Town of Amherst, Town of Tonawanda.
| At the downstream face of the footbridge near the intersection of Creekside Road and Niagara Falls Boulevard | None | +574
Unnamed Tributary to Slate Bottom Creek | At the confluence with Slate Bottom Creek | +613 | +609 | Town of Cheektowaga.
| Approximately 450 feet upstream of Towers Boulevard | None | +609
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Buffalo
Maps are available for inspection at City Hall, Room 201, Buffalo, NY 14202.
City of Lackawanna
Maps are available for inspection at City Hall, 714 Ridge Road, Lackawanna, NY 14218.
City of Tonawanda
Maps are available for inspection at Tonawanda City Hall, 200 Niagara Street, Tonawanda, NY 14150.
Town of Amherst
Maps are available for inspection at the Town of Amherst Municipal Building, 5583 Main Street, Williamsville, NY 14221.
Town of Aurora
Maps are available for inspection at the Aurora Town Hall, 5 South Grove Street, East Aurora, NY 14052.
Town of Brant
Maps are available for inspection at the Town Hall, 1294 Brant-North Collins Road, Brant, NY 14027.
Town of Cheektowaga
Maps are available for inspection at the Town Hall, 3301 Broadway, Cheektowaga, NY 14227.
Town of Clarence
Maps are available for inspection at the Town Hall, 1 Town Place, Clarence, NY 14031.
Town of Eden
Maps are available for inspection at the Town Hall, 2795 East Church Street, Eden, NY 14057.
Town of Elma
Maps are available for inspection at the Town Hall, 1600 Bowen Road, Elma, NY 14059.
Town of Hamburg
Maps are available for inspection at the Hamburg Town Hall, 6100 South Park Avenue, Hamburg, NY 14075.
Town of Holland
Maps are available for inspection at the Town Hall, 47 Pearl Street, Holland, NY 14080.
Town of Lancaster
Maps are available for inspection at the Lancaster Town Hall, 21 Central Avenue, Lancaster, NY 14086.
Town of Orchard Park
Maps are available for inspection at the Town Hall, 4295 South Buffalo Road, Orchard Park, NY 14127.
Town of Tonawanda
Maps are available for inspection at the Tonawanda Town Hall, 2919 Delaware Avenue, Tonawanda, NY 14217.
Town of West Seneca
Maps are available for inspection at the Town Hall, 1250 Union Road, West Seneca, NY 14224.
Village of Alden
Maps are available for inspection at the Village Hall, 13336 Broadway, Alden, NY 14004.
Village of Blasdell
Maps are available for inspection at the Village Hall, 121 Miriam Avenue, Blasdell, NY 14219.
Village of Depew
Maps are available for inspection at the Village Hall, 85 Manitou Street, Depew, NY 14043.
Village of East Aurora
Maps are available for inspection at the Village Hall, 571 Main Street, East Aurora, NY 14052.
Village of Hamburg
Maps are available for inspection at the Hamburg Village Hall, 100 Main Street, Hamburg, NY 14075.
Village of Lancaster
Maps are available for inspection at the Lancaster Village Hall, 5423 Broadway, Lancaster, NY 14086.
Village of Orchard Park
Maps are available for inspection at the Orchard Park Village Offices, 4295 South Buffalo Road, Orchard Park, NY 14127.
Holmes County, Ohio, and Incorporated Areas
Killbuck Creek | Just downstream of U.S. Route 62 | None | +807 | Unincorporated Areas of Holmes County, Village of Killbuck.
| Just upstream of Township Road 91 | None | +811
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Holmes County
Maps are available for inspection at 2 Court Street, Millersburg, OH 44654.
Village of Killbuck
Maps are available for inspection at 451 South Railroad Street, Killbuck, OH 44637.
Jefferson County, Pennsylvania (All Jurisdictions)
Big Run | Approximately 1,500 feet downstream of the confluence with Trout Run | None | +1,281 | Township of Henderson.
| Approximately 250 feet downstream of the confluence with Trout Run | None | +1,284
Falls Creek | Approximately 1,740 feet downstream of the confluence with Wolf Run | None | +1,399 | Township of Washington.
| Approximately 1,450 feet upstream of the confluence with Wolf Run | None | +1,415
Fivemile Run | Approximately 260 feet upstream of the confluence with Sandy Lick Creek | None | +1,220 | Township of Rose.
| Approximately 240 feet upstream of the confluence with Swamp Run | None | +1,231
Mahoning Creek | At the confluence with Elk Run | None | +1,234 | Borough of Punxsutawney.
| Approximately 450 feet upstream of Graffius Avenue, on Elk Run | None | +1,234
Mahoning Creek | Approximately 0.44 mile upstream of the confluence with Elk Run | None | +1,237 | Township of Bell.
| Approximately 0.46 mile upstream of the confluence with Elk Run | None | +1,237
Mahoning Creek | Approximately 0.66 mile downstream of Lincoln Avenue | None | +1,227 | Township of Young.
| Approximately 0.64 mile downstream of Lincoln Avenue | None | +1,227
Rattlesnake Creek | Approximately 200 feet upstream of the confluence with Rattlesnake Run | None | +1,468 | Township of Washington.
| Approximately 250 feet upstream of the confluence with Rattlesnake Run | None | +1,468
Redbank Creek | Approximately 1 mile upstream of the confluence with Coder Run | None | +1,210 | Township of Rose.
| Approximately 0.70 mile downstream of White Street | None | +1,212
Sandy Lick Creek | Approximately 0.28 mile downstream of 2nd Street | None | +1,216 | Township of Rose.
| Approximately 1,050 feet downstream of 2nd Street | None | +1,217
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Punxsutawney
Maps are available for inspection at the Mahoning East Civic Center, 301 East Mahoning Street, Punxsutawney, PA 15767.
Township of Bell
Maps are available for inspection at the Bell Township Building, 103 Runway Drive, Punxsutawney, PA 15767.
Township of Henderson
Maps are available for inspection at the Henderson Township Hall, 2801 Pine Run Road, Sigel, PA 15767.
Township of Rose
Maps are available for inspection at the Rose Township Hall, 17042 State Route 36, Brookville, PA 15825.
Township of Washington
Maps are available for inspection at the Washington Township Office, 2933 Airport Road, Falls Creek, PA 15840.
Township of Young
Maps are available for inspection at the Young Township Office, 1517 Walston Road, Walston, PA 15781.
Lawrence County, Pennsylvania (All Jurisdictions)
Beaver River | Approximately 0.49 mile downstream of the confluence with Wampum Run | None | +763 | Borough of New Beaver, Borough of Wampum.
| Approximately 1 mile downstream of the confluence with Jenkins Run | None | +767
Beaver River | Approximately 400 feet downstream of the confluence with the Shenango River | None | +776 | Township of Taylor.
| Approximately 80 feet downstream of the confluence with the Shenango River | None | +776
Big Run Tributary 5 | Approximately 0.45 mile downstream of Harlandsburg Road | None | +1,157 | Township of Hickory.
| Approximately 1,362 feet upstream of the intersection of Harlandsburg Road and Cameron Road | None | +1,159
Mahoning River | Approximately 0.69 mile downstream of the intersection of Washington Street and Winter Road | None | +785 | Township of Union.
| Approximately 0.68 mile downstream of the intersection of Washington Street and Winter Road | None | +785
Neshannock Creek | Approximately 1,500 feet downstream of the confluence with Lick Run | None | +849 | Township of Hickory.
| Approximately 1,230 feet upstream of the confluence with Lick Run | None | +859
Neshannock Creek | Approximately 0.45 mile upstream of the confluence with Neshannock Creek Tributary 5 | None | +924 | Township of Wilmington.
| Approximately 0.47 mile downstream of the intersection of Highland Avenue and Neshannock Falls Road | None | +925
Neshannock Creek Tributary 3 | Approximately 50 feet upstream of Lakewood-Neshannock Falls Road | None | +901 | Township of Hickory.
| Approximately 540 feet upstream of Lakewood-Neshannock Falls Road | None | +901
Shenango River | Approximately 800 feet downstream of the confluence with the Shenango River | None | +777 | Township of Taylor.
| Approximately 1,200 feet downstream of Mahoning Avenue | None | +787
Shenango River | Approximately 40 feet upstream of the confluence with Shenango River Tributary 2 | None | +804 | Township of Mahoning, Township of Pulaski, Township of Union.
| Approximately 0.70 mile upstream of the confluence with Shenango River Tributary 5 | None | +809
Slippery Rock Creek | Approximately 400 feet downstream of Portersville Road | None | +831 | Township of Perry.
| Approximately 1,460 feet upstream of Van Gorder Mill Road | None | +848
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of New Beaver
Maps are available for inspection at the New Beaver Borough Office, 778 Wampum New Galilee Road, New Galilee, PA 16141.
Borough of Wampum
Maps are available for inspection at the Borough Secretary's Office, 355 Main Street, Wampum, PA 16157.
Township of Hickory
Maps are available for inspection at the Hickory Township Hall, 127 Eastbrook-Neshannock Falls Road, New Castle, PA 16105.
Township of Mahoning
Maps are available for inspection at the Mahoning Township Municipal Building, 4538 West State Street, Hillsville, PA 16132.
Township of Perry
Maps are available for inspection at the Perry Township Hall, 525 Cut Off Street, Ellwood City, PA 16117.
Township of Pulaski
Maps are available for inspection at the Township Hall, 1172 State Route 208, Pulaski, PA 16117.
Township of Taylor
Maps are available for inspection at the Taylor Township Board of Supervisors Office, 218 Industrial Street, West Pittsburg, PA 16160.
Township of Union
Maps are available for inspection at the Union Township Board of Supervisors Office, 1910 Wilson Drive, New Castle, PA 16101.
Township of Wilmington
Maps are available for inspection at the Wilmington Township Hall, 669 Wilson Mill Road, New Castle, PA 16105.
Cherokee County, South Carolina, and Incorporated Areas
Broad River | At the confluence with the Pacolet River | None | +437 | Unincorporated Areas of Cherokee County.
| Approximately 2.1 miles upstream of the confluence with Quinton Branch | None | +458
Kings Creek | At the confluence with the Broad River | None | +458 | Unincorporated Areas of Cherokee County.
| Approximately 0.9 mile upstream of Old Chester Road | None | +493
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Cherokee County
Maps are available for inspection at the Cherokee County Administration Office, 210 North Limestone Street, Gaffney, SC 29340.
Putnam County, West Virginia, and Incorporated Areas
Buffalo Creek | At the confluence with the Kanawha River | None | +575 | Town of Eleanor, Unincorporated Areas of Putnam County.
| Approximately 1.77 mile upstream of the Town of Eleanor boundary | None | +577
Mill Creek | At the confluence with Hurricane Creek | None | +626 | City of Hurricane, Unincorporated Areas of Putnam County.
| Approximately 200 feet downstream of White Rock Drive | None | +678
Poplar Fork | At the confluence with Hurricane Creek | None | +585 | Unincorporated Areas of Putnam County.
| Approximately 95 feet downstream of Cow Creek Road | None | +585
Poplar Fork | Just upstream of the confluence with Long Branch | None | +626 | Unincorporated Areas of Putnam County.
| Approximately 130 feet downstream of State Route 34 | None | +646
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Hurricane
Maps are available for inspection at City Hall, 3255 Teays Valley Road, Hurricane, WV 25526.
Town of Eleanor
Maps are available for inspection at the Town Hall, 401 Roosevelt Boulevard, Eleanor, WV 25070.
Unincorporated Areas of Putnam County
Maps are available for inspection at the Putnam County Office of Planning and Infrastructure, 3389 Winfield Road, Winfield, WV 25213.

(Catalog of Federal Domestic Assistance No. 97.022, “Flood Insurance.”)

Dated: September 1, 2010.
Sandra K. Knight,
Deputy Federal Insurance and Mitigation Administrator, Mitigation, Department of Homeland Security, Federal Emergency Management Agency.

[FR Doc. 2010-22761 Filed 9-10-10; 8:45 am]

BILLING CODE 9110-12-P